DEPARTMENT OF EDUCATION

[CFDA No. 84.031S]

Office of Postsecondary Education; Developing Hispanic-Serving Institutions Program; Notice Inviting Applications for New Awards for Fiscal Year (FY) 2001

Purpose of Program: Assists eligible Hispanic-Serving Institutions (HSI) of higher education to expand their capacity to serve Hispanic and low-income students by enabling them to improve their academic quality, institutional management, and fiscal stability and to increase their self-sufficiency. Five-year development grants will be awarded in FY 2001. One-year planning grants will not be awarded in FY 2001. For FY 2001 the competition for new awards focuses on projects designed to meet the priorities we describe in the PRIORITIES section of this application notice.

Eligible Applicants: Institutions of higher education that have been designated eligible to receive funding under Parts A or B of Title III or under Title V of the Higher Education Act of 1965, as amended (HEA), are eligible to apply for individual development grants and are eligible to apply for cooperative arrangement grants. In addition, at the time of application, the institution must provide assurances that it has an enrollment of undergraduate full-time equivalent (FTE) students that is at least 25 percent Hispanic students, and that not less than 50 percent of their Hispanic students are low-income individuals.

Special Notes: 1. An institution may not receive funding under the Title V program and the Title III Part A or B programs at the same time. An institution that is currently a recipient of a grant under Title III Part A or B may not relinquish that grant in order to apply for a Title V grant. The programs authorized under Part A of Title III of the HEA include the Strengthening Institutions Program, the American Indian Tribally Controlled Colleges and Universities Program, the Alaska Native-Serving Institutions Program, and the Native Hawaiian-Serving Institutions Program. The programs authorized under Part B of Title III include the Strengthening Historically Black Colleges and Universities Program and the Strengthening Historically Black Graduate Institutions Program.

2. An institution may apply for a grant under both Title III Part A programs and Title V. However, an institution can only receive funding under one of those programs. Accordingly, if an institution applies for a grant under more than one program, the institution should indicate that fact in each application, and should indicate which program grant it prefers to receive.

Applications Available: January 24, 2001.

Deadline for Transmittal of Applications: March 12, 2001.

Deadline for Intergovernmental Review: May 11, 2001.

Electronic Field Reading: All grant applications under the HSI Program will be reviewed by a three member panel of peer reviewers. The reviewers will provide comments and score applications online via a secured website. Reviewers will have opportunities to discuss any significant scoring differences by conference calls.

Estimated Available Funds: Congress has appropriated $68,500,000 for this program for FY 2001. Approximately, $48,900,000 will support continuing grants. Therefore, approximately $19,600,000 will be available for the new grant competition.

Estimated Range of Awards: Individual Development Grants: $400,000-$450,000 per year. Cooperative Arrangement Grants: $575,000-$625,000 per year.

Estimated Average Size of Awards: Individual Development Grant: $425,000 per year. Cooperative Arrangement Development Grant: $600,000 per year.

Estimated Number of Awards: Individual Development Grants: 39. Cooperative Arrangement Development Grants: 3-5.

Note: The Department is not bound by any estimates in this notice.

Project Period: 60 months for Individual Development and Cooperative Arrangement Development grants.

Page Limit: We have established mandatory page limits for both the individual development grant and the cooperative arrangement development grant. You must limit the application to the equivalent of no more than 100 pages for the individual development grant and 140 pages for the cooperative arrangement development grant, using the following standards:

• A “page” is 8.5″ × 11″, on one side only, with 1″ margins top, bottom, and both sides. Page headings, page numbers, and footnotes may be outside the 1″ margin.

• Double space (no more than three lines per vertical inch) all text in the application narrative, including titles, and headings. However, you may single space footnotes, quotations, references, captions, charts, forms, tables, figures, and graphs.

• Use a font that is either 12-point or larger or no smaller than 10 pitch (characters per inch).

The page limit does not apply to the application cover sheet, the table of contents, the two page abstract, or the assurances and certificates. Furthermore, the page limit does not apply to the allowed appendices for the individual development grant and the cooperative arrangement development grant.

Our reviewers will not read any pages of your application that—

• Exceed the page limit if you apply these standards; or

• Exceed the equivalent of the page limit if you apply other standards.

Applicable Regulations: (a) The Education Department General Administrative Regulations (EDGAR) in 34 CFR parts 74, 75, 77, 79, 81, 82, 85, 86, 97, 98 and 99, and (b) The regulations for this program in 34 CFR part 606.

Priorities: This competition focuses on development grant applications that meet the priority in section 511(d) of the HEA (see 34 CFR 75.105(b)(2)(iv)). This priority is as follows:

Collaborative Arrangement Absolute Priority. The Secretary shall give priority to an individual development grant application that contains satisfactory evidence that the HSI applicant has entered into or will enter into a collaborative arrangement with at least one local educational agency or community-based organization to provide such agency or organization with assistance (from funds other than funds provided under Title V of the HEA) in reducing dropout rates for Hispanic students, improving rates of academic achievement for Hispanic students, and increasing the rates at which Hispanic secondary school graduates enroll in higher education.

Under 34 CFR 75.105(c)(3) we consider only development grant applications that meet this priority.

This competition also focuses on cooperative arrangement development grant applications that meet the priority in section 514(b) of the HEA (see 34 CFR 75.105(b)(2)(iv) and 34 CFR 606.25). This priority is as follows:

Geographic and Economic Absolute Priority. The Secretary gives priority to grants for cooperative arrangements that are geographically and economically sound or will benefit the applicant Hispanic-Serving institution.

Under 34 CFR 75.105(c)(3) we consider only applications for cooperative arrangement development grants that meet this priority.

Invitational Priorities: Within the Geographic and Economic absolute priority for cooperative arrangement development grants for this competition for FY 2001, we are particularly interested in applications that meet one or more of the following priorities.

Invitational Priority 1

Cooperative arrangements between two-year and four-year institution partners aiming to increase transfer and retention of Hispanic students.

Invitational Priority 2

Cooperative arrangements that develop and share technological resources in order to enhance the institution's partners' ability to serve the needs of low-income communities and/or minority populations, especially in rural areas.

Invitational Priority 3

Cooperative arrangements that include at least one HSI partner that does not currently have funding under the Title V HSI program.

Invitational Priority 4

Cooperative arrangements that involve the institutional partners from more than one university or college system.

Under 34 CFR 75.105(c)(1) we do not give an application that meets one or more of these invitational priorities a competitive or absolute preference over other applications.

Special Funding Consideration: In tie-breaking situations described in 34 CFR 606.23 of the HSI Program regulations, the Secretary awards one additional point to an application from an institution that has an endowment fund for which the current market value per FTE student is less than the average endowment fund value per FTE student at the same type of institution (two-year or four-year). The Secretary also awards one additional point to an application from an institution that currently has library material expenditures per FTE student less than the average library material expenditure per FTE student at the same type of institution (two-year or four-year).

If a tie still remains after applying the additional points specified above, we use a combined ranking of library expenditures and endowment fund values per FTE student as a final tiebreaker. The institutions with the lowest combined library expenditures per FTE student and endowment fund values per FTE student are ranked higher in strict numerical order.

FOR APPLICATIONS AND FURTHER INFORMATION CONTACT: Jessie DeAro, Carnisia Proctor, or Sophia McArdle, Title V-Developing Hispanic-Serving Institutions Program, U.S. Department of Education, 1990 K Street NW., 6th floor, Washington DC 20006-8501. Telephone: (202) 502-7777, or via Internet: title_five@ed.gov

If you use a telecommunications device for the deaf (TDD) you may call the Federal Information Relay Service (FIRS) at 1-800-877-8339.

Individuals with disabilities may obtain this document in an alternative format (e.g., Braille, large print, audiotape, or computer diskette) on request to the program contact persons listed under FOR APPLICATIONS AND FURTHER INFORMATION CONTACT.

Individuals with disabilities may obtain a copy of the application package in an alternative format by contacting those persons. However, the Department is not able to reproduce in an alternative format the standard forms included in the application package.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the previous sites. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 USC 1059c.

Dated: January 18, 2001.
A. Lee Fritschler,
Assistant Secretary, Office of Postsecondary Education.

[FR Doc. 01-2112 Filed 1-23-01; 8:45 am]

BILLING CODE 4000-01-U